DEPARTMENT OF AGRICULTURE

Animal and Plant Health Inspection Service

[Docket No. APHIS-2010-0001]

Notice of Availability of a Draft Pest Risk Assessment on Honey Bees Imported from Australia

AGENCY: Animal and Plant Health Inspection Service, USDA.

ACTION: Notice of availability and request for comments.

SUMMARY: We are advising the public that the Animal and Plant Health Inspection Service has prepared an evaluation of the pest risks associated with the importation of honey bees from Australia. The draft pest risk assessment considers potential pest risks involved in the importation of honeybees into the United States from Australia after concerns that exotic honey bee pathogens or parasites may have been introduced into Australia. We are making the draft pest risk assessment available to the public for review and comment.

DATES: We will consider all comments that we receive on or before May 14, 2010.

ADDRESSES: You may submit comments by either of the following methods:

• Federal eRulemaking Portal: Go to (http://www.regulations.gov/fdmspublic/component/main?main=DocketDetail&d=APHIS-2010-0001) to submit or view comments and to view supporting and related materials available electronically.

• Postal Mail/Commercial Delivery: Please send two copies of your comment to Docket No. APHIS-2010-0001, Regulatory Analysis and Development, PPD, APHIS, Station 3A-03.8, 4700 River Road Unit 118, Riverdale, MD 20737-1238. Please state that your comment refers to Docket No. APHIS-2010-0001.

Reading Room: You may read any comments that we receive on the draft pest risk assessment in our reading room. The reading room is located in room 1141 of the USDA South Building, 14th Street and Independence Avenue, SW., Washington, DC. Normal reading room hours are 8 a.m. to 4:30 p.m., Monday through Friday, except holidays. To be sure someone is there to help you, please call (202) 690-2817 before coming.

Other Information: Additional information about APHIS and its programs is available on the Internet at (http://www.aphis.usda.gov).

FOR FURTHER INFORMATION CONTACT: Dr. Colin D. Stewart, Senior Entomologist, PPQ, APHIS, 4700 River Road Unit 133, Riverdale, MD 20737-1237; (301) 734-0774.

SUPPLEMENTARY INFORMATION:

Background

The regulations in 7 CFR part 322 restrict the importation, interstate movement, and transit through the United States of bees, beekeeping byproducts, and beekeeping equipment to prevent the introduction of pests into the United States through the importation of honeybees from approved regions. Australia is currently on the list of approved regions from which adult honeybees maybe imported into the United States under certain conditions.

In March 2002, APHIS issued a report assessing the risks of pest introduction into the United States in imports of honey bees (Apis mellifera L.) from Australia. The evaluation identified 15 pathogens and pests of bees in that country, all of which occur in the United States. The evaluation concluded that there were no quarantine-significant honey bee pathogens or pests occurring in Australia.

In the 7 years since the completion of the evaluation for Australian bees, new threats to the U.S. honey bee population have emerged. The most prominent threat is Colony Collapse Disorder, a mysterious syndrome characterized by the abrupt disappearance of a colony’s adult worker bee population, leaving a substantial population of healthy brood, an absence of dead bees, and the delayed invasion of hive pests and robbing of hive stores by neighboring colonies. A link between the disorder, first reported in the United States in 2006, and honey bee imports from Australia has been suggested. The May 2007 discovery of colonies of the Asian honey bee (Apis cerana) near Cairns, Victoria, also has raised concerns that exotic honey bee pathogens or parasites may have been introduced into Australia with the arrival of this foreign bee. These developments suggest a need to reevaluate the risks involved in importation of bees from Australia.

APHIS’ review and analysis of the risks associated with the importation of honey bees from Australia are documented in detail in a draft pest risk assessment (PRA) titled, “Evaluation of Pest Risks Associated with Importation of Honey Bees (Apis mellifera L.) from Australia” (November 2009). Findings presented in the draft PRA state that there are honey bee viruses present in Australia that are not known to occur in the United States. The draft PRA concludes that zoosanitary measures may be necessary to reduce the possibility of the introduction of these viruses to the United States via the importation of honey bees from Australia.

We are making the draft PRA available to the public for review and comment. We will consider all comments that we receive on or before the date listed under the heading DATES at the beginning of this notice. The draft PRA and the comments received may be the basis for a future change in the regulations.

The draft PRA may be viewed on the Regulations.gov Web site or in our reading room (see ADDRESSES above for instructions for accessing Regulations.gov and information on the location and hours of the reading room). You may request paper copies of the draft PRA by calling or writing to the person listed under FOR FURTHER INFORMATION CONTACT. Please refer to the title of the draft PRA when requesting copies.

Done in Washington, DC, this 8th day of March 2010.

Kevin Shea,
Acting Administrator, Animal and Plant Health Inspection Service.

[FR Doc. 2010-5573 Filed 3-12-10; 8:45 am]

BILLING CODE 3410-34-S